DEPARTMENT OF TRANSPORTATION

Maritime Administration

[Docket No: MARAD-2006-25364]

Availability of a Draft Environmental Assessment

AGENCY: Department of Transportation, Maritime Administration.

ACTION: Notice of the Availability of a draft Environmental Assessment.

SUMMARY: The purpose of this Notice is to make available to the public the draft Environmental Assessment (EA) for the Removal of Non-Retention Vessels from the Suisun Bay Reserve Fleet. The draft EA analyzes the impacts associated with removal of all non-retention vessels for eventual disposal through various means such as recycling, museum donations, artificial reef creation, and/or military and civilian uses.

DATES: Comments on this draft Environmental Assessment must be received by August 28, 2006.

ADDRESSES: You may submit comments [identified by DOT DMS Docket Number MARAD-2006-25364] by any of the following methods:

• Web Site: http://dms.dot.gov. Follow the instructions for submitting comments on the DOT electronic docket site.

• Mail: Docket Management Facility; U.S. Department of Transportation, 400 7th St., SW., Nassif Building, Room PL-401, Washington, DC 20590-0001.

• Hand Delivery: Room PL-401 on the plaza level of the Nassif Building, 400 7th St., SW., Washington, DC, between 9 a.m. and 5 p.m., Monday through Friday, except Federal Holidays.

Instructions: All submissions must include the agency name and docket number for this action. Note that all comments received will be posted without change to http://dms.dot.gov including any personal information provided. Please see the Privacy Act heading below.

Docket: For access to the docket to read background documents or comments received, go to http://dms.dot.gov at any time or to Room PL-401 on the plaza level of the Nassif Building, 400 7th St., SW., Washington, DC, between 9 a.m. and 5 p.m., Monday through Friday, except Federal Holidays.

FOR FURTHER INFORMATION CONTACT: Daniel E. Yuska, Jr., Environmental Protection Specialist, Office of Environmental Activities, U.S. Maritime Administration, 400 Seventh Street, SW., Washington, DC. 20590; telephone (202) 366-0714, fax (202) 366-6988.

SUPPLEMENTARY INFORMATION: An electronic version of this document and all documents entered into this docket are available at http://dms.dot.gov. In addition, copies of the draft EA are available for public viewing at the Benicia Public Library in Benicia, California.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

(Authority: 49 CFR 1.66)

By Order of the Maritime Administrator.
Dated: July 21, 2006.
Joel C. Richard,
Secretary, Maritime Administration.

[FR Doc. E6-12032 Filed 7-26-06; 8:45 am]

BILLING CODE 4910-81-P